DEPARTMENT OF AGRICULTURE

Food Safety and Inspection Service

[Docket No. 00-039N]

Codex Alimentarius Commission: Thirty-third Session of the Codex Committee on Food Hygiene

AGENCY: Office of the Under Secretary for Food Safety, USDA.

ACTION: Notice of public meeting and request for comments.

SUMMARY: The Office of the Under Secretary for Food Safety, U.S. Department of Agriculture (USDA), and the Food and Drug Administration (FDA), are sponsoring a public meeting on October 6, 2000, to present and receive comments on draft United States positions on all issues coming before the Thirty-third Session of the Codex Committee on Food Hygiene (CCFH), which will be held in Washington, DC, October 23-28, 2000. The Under Secretary and FDA recognize the importance of providing interested parties the opportunity to obtain background information on the Thirty-third Session of the CCFH and to address items on the agenda.

DATES: The public meeting is scheduled for Friday, October 6, 2000, from 1 p.m. to 5 p.m.

ADDRESSES: The public meeting will be held in Conference Room 1409, Federal Office Building 8, 200 C Street, SW., Washington, DC 20204. To receive copies of the documents referenced in this notice, contact the FSIS Docket Room, U.S. Department of Agriculture, Food Safety and Inspection Service, Room 102, Cotton Annex, 300 12th Street, SW., Washington, DC 20250-3700. The documents will also be accessible via the World Wide Web at the following address: http://www.fao.org/waicent/faoinfo/economic/esn/codex. Submit one original and two copies of written comments to the FSIS Docket Room (address above) Docket #00-039N and include the Codex document number. All comments received in response to this notice will be considered part of the public record and will be available for viewing in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250-3700, Telephone (202) 205-7760, Fax (202) 720-3157. Persons requiring a sign language interpreter or other special accommodations should notify Mr. Clerkin at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Food Hygiene was established to draft basic provisions on food hygiene to all foods. The United States hosts this Committee and representatives of the United States Government will chair the Committee meeting.

Issues To Be Discussed at the Public Meeting

The provisional agenda items and the relevant documents to be discussed during the public meeting are:

1. Report by the Secretariat on Matters Referred by the Codex Alimentarius Commission and/or Other Codex Committees to the Food Hygiene Committee, Document CX/FH 00/2

2. Preliminary Report of the ad hoc Expert Consultation on Risk Assessment of Microbiological Hazards in Food and Related Matters, Document CX/FH 00/3

3. Proposed Draft Code of Hygienic Practice for Primary Production, Harvesting and Packaging of Fresh Fruits and Vegetables, Documents CX/FH 00/4—Comments at Step 3 CX/FH 00/4-Add.1

4. Proposed Draft Code of Hygienic Practice for Pre-Cut Fruits and Vegetables, Documents CX/FH 00/5—Comments at Step 3 CX/FH 00/5-Add.1

5. Proposed Draft Principles and Guidelines for the Conduct of Microbiological Risk Management, Documents CX/FH 00/6—Comments at Step 3 CX/FH 00/6-Add. 1

6. Proposed Draft Code of Hygienic Practice for Milk and Milk Products, Documents CX/FH 00/7—Comments at Step 3 CX/FH 00/7-Add. 1

7. Proposed Draft Guidelines for Hygienic Reuse of Processing Water in Food Plants, Documents CX/FH 00/8—Comments at Step 3 CX/FH 00/8-Add. 1

8. Proposed Draft Guidelines for the Control of Listeria monocytogenes in Foods, Documents CX/FH 00/9—Comments at Step 3 CX/FH 00/9-Add.1

9. Discussion Paper on the Implementation of HACCP in Small and/or Less Developed Businesses, Documents CX/FH 00/10

10. Discussion Paper on the Antimicrobial Resistant Bacteria in Food, Document CX/FH 00/11

11. Discussion Paper on the Proposed Draft Guidelines for the Validation of Food Hygiene Control Measures, Document CX/FH 00/12

12. Discussion Paper on the Proposed Draft Guidelines for Evaluating Objectionable Matter in Food, Document CX/FH 00/13

13. Priorities for the Revision of Codes of Hygienic Practice, Document CX/FH 00/14

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: September 18, 2000.
F. Edward Scarbrough,
U.S. Manager for Codex.

[FR Doc. 00-24418 Filed 9-21-00; 8:45 am]

BILLING CODE 3410-DM-P